DEPARTMENT OF THE INTERIOR

National Park Service

Notice of Intent to Repatriate Cultural Items: U.S. Department of Agriculture, Forest Service, Coconino National Forest, Flagstaff, AZ, and American Museum of Natural History, New York City, NY

AGENCY: National Park Service, Interior.

ACTION: Notice.

Notice is here given in accordance with the Native American Graves Protection and Repatriation Act (NAGPRA), 25 U.S.C. 3005, of the intent to repatriate cultural items in the control of the U.S. Department of Agriculture, Forest Service, Coconino National Forest, Flagstaff, AZ, and in the possession of the American Museum of Natural History, New York City, NY, that meet the definition of unassociated funerary objects under 25 U.S.C. 3001.

This notice is published as part of the National Park Service's administrative responsibilities under NAGPRA, 25 U.S.C. 3003(d)(3). The determinations in this notice are the sole responsibility of the museum, institution, or Federal agency that has control of the cultural items. The National Park Service is not responsible for the determinations in this notice.

The four cultural items are two fragments of cotton cloth wrappings, one fragment of yucca matting and one cotton roll in two pieces (one of which is an extra-weft textile with an embroidered design in brown). According to museum records, the four items were removed by Earl Morris from an infant burial in a cave, in Clear Creek, AZ, in 1926. All items are curated at the American Museum of Natural History and have been in the possession of the museum since their excavation.

Archeologists who examined the cloth date the pieces to the late Prehistoric Period (between A.D. 1300 and A.D. 1400). Continuities of oral traditions, ethnographic materials, technology and architecture indicate that the prehistoric peoples of the upper Verde River Valley are ancestral to the Hopi Tribe of Arizona.

Officials of the American Museum of Natural History and the U.S. Department of Agriculture, Forest Service, Coconino National Forest, have determined that, pursuant to 25 U.S.C. 3001(3)(B), the four cultural items described above are reasonably believed to have been placed with or near individual human remains at the time of death or later as part of the death rite or ceremony and are believed, by a preponderance of the evidence, to have been removed from a specific burial site of a Native American individual. Officials of the American Museum of Natural History and the U.S. Department of Agriculture, Forest Service, Coconino National Forest, also have determined that, pursuant to 25 U.S.C. 3001(2), there is a relationship of shared group identity that can be reasonably traced between the unassociated funerary objects and the Hopi Tribe of Arizona.

Representatives of any other Indian tribe that believes itself to be culturally affiliated with the unassociated funerary objects should contact Dr. Frank E. Wozniak, NAGPRA Coordinator, Southwestern Region, USDA Forest Service, 333 Broadway Blvd., SE, Albuquerque, NM 87102, telephone (505) 842-3238, before August 27, 2010. Repatriation of the unassociated funerary objects to the Hopi Tribe of Arizona may proceed after that date if no additional claimants come forward.

The U.S. Department of Agriculture, Forest Service, Coconino National Forest, is responsible for notifying the Hopi Tribe of Arizona; Yavapai-Prescott Tribe of the Yavapai Reservation, Arizona; and the Zuni Tribe of the Zuni Reservation, New Mexico, that this notice has been published.

Dated: July 22, 2010
Sherry Hutt,
Manager, National NAGPRA Program.

[FR Doc. 2010-18434 Filed 7-27-10; 8:45 am]

BILLING CODE 4312-50-S